DEPARTMENT OF TRANSPORTATION

National Highway Traffic Safety Administration

Denial of Motor Vehicle Recall Petition

AGENCY: National Highway Traffic Safety Administration (NHTSA), Department of Transportation.

ACTION: Denial of petition for an investigation into the adequacy of a safety recall.

SUMMARY: This notice sets forth the reasons for the denial of a petition submitted to NHTSA under 49 U.S.C. 30120(e) by Mr. Philip N. McBroom, requesting that the agency commence a proceeding to determine the adequacy of the remedy utilized by DaimlerChrysler Corporation to address a safety-related defect in Safety Recall 98V-184. After a review of the petition and other information, NHTSA has concluded that further expenditure of the agency's investigative resources on the issues raised by the petition does not appear warranted. The agency accordingly has denied the petition. The petition is hereinafter identified as RP04-001.

FOR FURTHER INFORMATION CONTACT: Mr. Jonathan White, Chief, Defect Assessment Division, Office of Defects Investigation (ODI), NHTSA, 400 Seventh Street, SW., Washington, DC 20590. Telephone: (202) 366-5226.

SUPPLEMENTARY INFORMATION: On February 6, 2004, Mr. Philip N. McBroom submitted a petition requesting that the agency investigate the adequacy of the remedy used by DaimlerChrysler in Safety Recall 98V-184. The petition alleges his model year (MY) 1997 Dodge Intrepid had an engine compartment fire after the recall repairs had been made to his vehicle prior to his ownership. He further alleges that he smelled fuel fumes and did not observe any exterior fuel leakage from the vehicle prior to the fire. The vehicle was a total loss and has been salvaged. The specific cause of this alleged fire is not known.

On August 6, 1998, DaimlerChrysler filed a Defect Information Report, Recall No. 98V-184, concerning engine compartment fuel rail leaks and potential fire in approximately 722,600 vehicles built with 3.5L V6 engines, including the MY 1997 Dodge Intrepid. DaimlerChrysler reported that a fuel leak could result from deteriorated nitrile rubber fuel rail o-rings or hairline cracks in the outlet (passenger) side thermoset plastic fuel injection rail. The recall remedy involved replacement of the fuel rail nitrile o-rings with new o-rings of fluorocarbon composition and reinforcement of the outlet fuel rail. Those vehicles that exhibit fuel leakage of the outlet fuel rail, as determined by a leak test, would have the outlet fuel rail replaced.

On July 10, 1998, NHTSA opened a recall query (RQ98-018), to examine the adequacy of the remedy DaimlerChrysler used in recall 98V-184. At its closing on July 8, 2002, it concluded approximately 80 percent of the recall population has been remedied by March 2002, and that 99.7 percent of alleged remedy failures were corrected after two dealer visits using DaimlerChrylser's modified remedy procedures. Since the closing of RQ98-018 ODI has received a total of 38 complaints of engine compartment fuel leakage in the entire recall population after the recall remedy was performed, including 11 complaints on the 1997 Dodge Intrepid. Of these 11 reports, three concerned a part failure unrelated to the recall remedy, two concerned the same part, and six reports concerned unknown or unspecified fuel component failures. Two of these 11 complaints reported an engine compartment fire, including Mr. McBroom's vehicle. Mr. McBroom's vehicle was investigated by the local North Star Fire Department, which stated that the cause of the engine compartment fire was undetermined.

On September 11, 2000, ODI was petitioned (RP00-001) to investigate the effectiveness of DaimlerChrysler's remedy procedure in recall 98V-184. On October 23, 2000, the petitioner was informed that the information she provided would be considered as part of RQ98-018. The information obtained in the investigation has shown that while post-repair leakage complaints have leveled off to approximately 20 per year, most are unrelated to the recall remedy. There is no new information obtained since the closing of RQ98-018 that would indicate any basis for reopening it.

For the foregoing reasons, further expenditure of the agency's investigative resources on the issues raised by the petition does not appear to be warranted. Therefore, the petition is denied.

Authority: 49 U.S.C. 30120(e); delegations of authority at 49 CFR 1.50 and 501.8.

Issued on: June 3, 2004.
Kenneth N. Weinstein,
Associate Administrator for Enforcement.

[FR Doc. 04-13053 Filed 6-8-04; 8:45 am]

BILLING CODE 4910-59-P